DEPARTMENT OF DEFENSE

Department of the Navy

32 CFR Part 706

Certifications and Exemptions Under the International Regulations for Preventing Collisions at Sea, 1972; Correction

Correction

In rule document 2010-4666 beginning on page 10413 in the issue of Monday, March 8, 2010 make the following correction:

§706.2 [Corrected]

On page 10413, in §706.2, in the table, under the heading “Number”, “CG 59” should read “CG 58”.

[FR Doc. C1-2010-4666 Filed 5-6-10; 8:45 am]

BILLING CODE 1505-01-D